FEDERAL COMMUNICATIONS COMMISSION

[GN Docket No. 12-268; MB Docket No. 16-306; DA 17-1015]

Incentive Auction Task Force and Media Bureau Announce the Initial Reimbursement Allocation for Eligible Broadcasters and MVPDs

AGENCY: Federal Communications Commission.

ACTION: Notice.

SUMMARY: In this document the Incentive Auction Task Force and the Media Bureau of the Federal Communications Commission (Commission) announce the issuance of an initial allocation of the TV Broadcaster Relocation Fund (Fund) in the amount of $1 billion to begin to reimburse eligible television broadcasters and multichannel video programming distributors (MVPDs), for reasonably incurred expenses related to the post-incentive auction repacking.

DATES: November 6, 2017.

FOR FURTHER INFORMATION CONTACT: Raphael Sznajder at (202) 418-1648 or Raphael.Sznajder@fcc.gov, or Jeffrey Neumann at (202) 418-2046 or Jeffrey.Neumann@fcc.gov, of the Media Bureau.

SUPPLEMENTARY INFORMATION: The Spectrum Act requires the Commission to “reimburse costs reasonably incurred” by broadcast television licensees that are involuntarily reassigned to new channels as a result of the repacking process and by MVPDs in order to continue carrying the signals of licensees reassigned to new channels as a result of the incentive auction and repacking process (together, Eligible Entities). The Incentive Auction Report and Order (FCC-14-50) set forth the process for reimbursing these Eligible Entities. Pursuant to the process established therein, this Public Notice (DA 17-1015) announces an initial allocation of approximately $1 billion, which is based on the total verified demand on the Fund, as of October 10, 2017. Eligible Entities submitted estimates of the expenditures they expect to incur as a result of the post-auction repack. After the Fund Administrator completed its reasonableness review of the estimates, and the Bureau reviewed and verified its recommendations, the total reimbursement demand for the purposes of the initial allocation, as of October 10, 2017, was $1,863,971,470.42. Based on this demand, the initial allocation will give commercial stations and MVPDs access to approximately 52 percent of their currently estimated and verified costs, and noncommercial educational stations access to approximately 62 percent of their currently estimated and verified costs. This Public Notice also announces that each Eligible Entity will receive an email on behalf of the Bureau describing the specific results of the reasonableness review of its estimated costs, which included: The aggregate verified amount for that entity's submitted estimate; where adjustments (if any) were made; and the rationale and amount of the modification to any cost estimate line items. Eligible Entities may view their individual allocations in the CORES Incentive Auction Financial Module pursuant to the procedures outlined in the Financial Procedures Public Notice (DA-17-282). The initial allocation does not reflect the total estimated cost of a station's anticipated expenditures. All stations that are transitioning to new channels should be aware of the applicable phase transition deadlines and plan for and initiate the various stages of their construction project in a timely manner to satisfy them. We have provided several tools that allow us to provide relief to stations that are ultimately unable to satisfy certain deadlines due to circumstances beyond their control, but failure to timely initiate a construction project or undertake necessary steps to complete the transition by the phase transition date due to the amount of the initial allocation or any subsequent allocation will not be weighed favorably as a factor in considering such relief. This is a summary of the FCC's document GN Docket No. 12-268; MB Docket No. 16-306; DA 17-1015 (released Oct. 16, 2017).

Federal Communications Commission.
Barbara A. Kreisman,
Chief, Video Division, Media Bureau.

[FR Doc. 2017-24024 Filed 11-3-17; 8:45 am]

BILLING CODE 6712-01-P